SECURITIES AND EXCHANGE COMMISSION

[Release No. 34-104702; File No. SR-CboeBZX-2025-096]

Self-Regulatory Organizations; Cboe BZX Exchange, Inc.; Notice of Designation of a Longer Period for Commission Action on Proceedings To Determine Whether To Approve or Disapprove a Proposed Rule Change To List and Trade Shares of the BondBloxx Private Credit Trust

January 28, 2026.

On July 25, 2025, pursuant to Section 19(b)(1) of the Securities Exchange Act of 1934 (“Act”) ¹ and Rule 19b-4 thereunder,² Cboe BZX Exchange, Inc. (“BZX”) filed with the Securities and Exchange Commission (“Commission”) a proposed rule change to list and trade shares of the BondBloxx Private Credit Trust under BZX Rule 14.11(f), Trust Issued Receipts. The proposed rule change was published for comment in the Federal Register on August 12, 2025.³ On September 22, 2025, pursuant to Section 19(b)(2) of the Act,⁴ the Commission designated a longer period within which to approve the proposal, disapprove the proposal, or institute proceedings to determine whether to disapprove the proposal.⁵ On November 6, 2025, the Commission instituted proceedings pursuant to Section 19(b)(2)(B) of the Act ⁶ to determine whether to approve or disapprove the proposed rule change.⁷

¹ 15 U.S.C. 78s(b)(1).

² 17 CFR 240.19b-4.

³ See Securities Exchange Act Release No. 103654 (Aug. 7, 2025), 90 FR 38849. The Commission has not received any comments regarding this proposed rule change.

⁴ 15 U.S.C. 78s(b)(2).

⁵ See Securities Exchange Act Release No. 104017, 90 FR 46276 (Sept. 25, 2025).

⁶ 15 U.S.C. 78s(b)(2)(B).

⁷ See Securities Exchange Act Release No. 104175, 90 FR 51420 (Nov. 17, 2025).

Section 19(b)(2) of the Act ⁸ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on August 12, 2025.⁹ February 8, 2026 is 180 days from that date, and April 9, 2026 is 240 days from that date.

⁸ 15 U.S.C. 78s(b)(2).

⁹ See supra note 3.

The Commission finds it appropriate to designate a longer period within which to issue an order approving or disapproving the proposed rule change so that it has sufficient time to consider the proposed rule change. Accordingly, the Commission, pursuant to Section 19(b)(2) of the Act,¹⁰ designates April 9, 2026, as the date by which the Commission shall either approve or disapprove the proposed rule change (File No. SR-CboeBZX-2025-096).

¹⁰ Id.

For the Commission, by the Division of Trading and Markets, pursuant to delegated authority.¹¹
¹¹ 17 CFR 200.30-3(a)(57).
Sherry R. Haywood,
Assistant Secretary.

[FR Doc. 2026-01971 Filed 1-30-26; 8:45 am]

BILLING CODE 8011-01-P